FEDERAL MARITIME COMMISSION

Notice of Agreement(s) Filed

The Commission hereby gives notice of the filing of the following agreement(s) under the Shipping Act of 1984. Interested parties can review or obtain copies of agreements at the Washington, DC, offices of the Commission, 800 North Capitol Street, NW., Room 940. Interested parties may submit comments on an agreement to the Secretary, Federal Maritime Commission, Washington, DC 20573, within 10 days of the date this notice appears in the Federal Register.

Agreement No.: 011284-053.

Title: Ocean Carrier Equipment Management Association Agreement (“OCEMA”).

Parties: APL Co. Pte. Ltd.; American President Lines, Ltd.; A.P.Moller-Maersk Sealand; CMA CGM, S.A.; Compania Sud Americana de Vapores, S.A.; Evergreen Marine Corp. (Taiwan) Ltd.; Hanjin Shipping Co., Ltd.; Hamburg-Süd-amerikanische Dampfschifffahrtsgesellschaft KG; Hapag-Lloyd Container Linie GmbH; Hyundai Merchant Marine Co., Ltd.; Mitsui O.S.K. Lines Ltd.; Lykes Lines Limited, LLC; TMM Lines Limited, LLC; Contship Containerlines, a division of CP Ships (UK) Limited; Australia-New Zealand Direct Line, a division of CP Ships (UK) Limited; Orient Overseas Container Line Limited; P&O Nedlloyd B.V.; P&O Nedlloyd Limited; Nippon Yusen Kaisha Line; Yang Ming Marine Transport Corp.; COSCO Container Lines Company Limited; Kawasaki Kisen Kaisha, Ltd.; and Crowley Maritime Corporation.

Synopsis: The subject amendment reflects that the administration and management of OCEMA will be through a non-profit corporation, revises committee membership and functions, and makes conforming modifications with the foregoing.

Agreement No.: 011860.

Title: CLS/Lykes Space Charter Agreement.

Parties: Crowley Liner Services, Inc.; Lykes Lines Limited, LLC.

Synopsis: The proposed agreement would authorize Crowley to charter space to Lykes in the trade from Gulfport, MS, to Puerto Cortes, Honduras.

By Order of the Federal Maritime Commission.
Dated: August 22, 2003.
Bryant L. VanBrakle,
Secretary.

[FR Doc. 03-21947 Filed 8-26-03; 8:45 am]

BILLING CODE 6730-01-P